POSTAL SERVICE

Change in Rates and Classes of General Applicability for Competitive Products

AGENCY: Postal Service™.

ACTION: Notice of a change in rates of general applicability for competitive products.

SUMMARY: This notice sets forth time-limited changes in rates of general applicability for competitive products.

DATES: The change in rates is effective October 3, 2021.

FOR FURTHER INFORMATION CONTACT: Elizabeth Reed, 202-268-3179.

SUPPLEMENTARY INFORMATION: On August 5, 2021, pursuant to their authority under 39 U.S.C. 3632, the Governors of the Postal Service established time-limited price changes for competitive products. The Governors' Decision and the record of proceedings in connection with such decision are reprinted below in accordance with section 3632(b)(2).

Ruth Stevenson,
Chief Counsel, Ethics and Legal Compliance.

Decision of the Governors of the United States Postal Service on Changes in Rates of General Applicability for Competitive Products (Governors' Decision No. 21-5)

August 5, 2021

Statement of Explanation and Justification

Pursuant to authority under section 3632 of title 39, as amended by the Postal Accountability and Enhancement Act of 2006 (“PAEA”), we establish new prices of general applicability for certain domestic shipping services (competitive products), and concurrent classification changes to effectuate the new prices. These prices shall be in effect from October 3, 2021 until December 26, 2021, at which time prices will be restored to the levels that were in effect prior to these increases. The changes are described generally below, with a detailed description of the changes in the attachment. The attachment includes the draft Mail Classification Schedule sections with the new prices that will take effect on October 3 displayed in the price charts, as well as the Mail Classification Schedule sections with the prices that will be restored on December 26.

As shown in the nonpublic annex being filed under seal herewith, the changes we establish should enable each competitive product to cover its attributable costs (39 U.S.C. 3633(a)(2)) and should result in competitive products as a whole complying with 39 U.S.C. 3633(a)(3), which, as implemented by 39 CFR 3035.107(c), requires competitive products collectively to contribute a minimum of 10.0 percent to the Postal Service's institutional costs. Accordingly, no issue of subsidization of competitive products by market dominant products should arise (39 U.S.C. 3633(a)(1)). We therefore find that the new prices are in accordance with 39 U.S.C. 3632-3633 and 39 CFR 3035.102.

I. Domestic Products

A. Priority Mail Express

Overall, the Priority Mail Express price change represents a 2.3 percent increase. The existing structure of zoned Retail, Commercial Base, and Commercial Plus price categories is maintained, with Commercial Base and Commercial Plus prices continuing to be set equal to each other. Retail prices will increase 2.3 percent on average. The Commercial Base and Commercial Plus price categories will increase 2.2 percent on average.

B. Priority Mail

On average, the Priority Mail prices will be increased by 5.7 percent. The existing structure of Priority Mail Retail, Commercial Base, and Commercial Plus price categories is maintained. Retail prices will increase 5.3 percent on average. The Commercial Base price category will increase 6.3 percent on average, while the Commercial Plus price category will increase 6.3 percent on average.

C. Parcel Select

On average, prices for destination-entered non-Lightweight Parcel Select, the Postal Service's bulk ground shipping product, will increase 11.0 percent. The prices for destination delivery unit (DDU) entered parcels will not change. For destination sectional center facility (DSCF) destination entered parcels, the average price increase is 15.9 percent. For destination network distribution center (DNDC) parcels, the average price increase is 12.5 percent. Prices for Parcel Select Lightweight will increase by 5.3 percent, while Parcel Select Ground will see a 6.2 percent price increase.

D. Parcel Return Service

Parcel Return Service prices will have an overall price increase of 13.0 percent. Prices for parcels retrieved at a return sectional center facility (RSCF) will increase by 7.4 percent, and prices for parcels picked up at a return delivery unit (RDU) will increase 18.7 percent.

E. First-Class Package Service

First-Class Package Service (FCPS) continues to be positioned as a lightweight (less than one pound) offering primarily used by businesses for fulfillment purposes. Overall, FCPS prices will increase 7.6 percent, which reflects a 8.0 increase for FCPS-Commercial, and a 6.4 increase for FCPS-Retail prices.

F. USPS Retail Ground

USPS Retail Ground prices will increase 5.3 percent. Customers shipping in Zones 1-4 will continue to receive Priority Mail service and will only default to USPS Retail Ground if the item contains hazardous material or is otherwise not permitted to travel by air transportation.

No price changes are being made to Special Services or International competitive products.

Order

The changes in prices set forth herein shall be effective at 12:01 a.m. on October 3, 2021, and will be rolled back to current levels on December 26, 2021. We direct the Secretary of the Board of Governors to have this decision published in the Federal Register in accordance with 39 U.S.C. 3632(b)(2), and direct management to file with the Postal Regulatory Commission appropriate notice of these changes.

By The Governors:

/s/

Ron A. Bloom,

Chairman, Board of Governors.

UNITED STATES POSTAL SERVICE OFFICE OF THE BOARD OF GOVERNORS

Certification of Governors' Vote on Governors' Decision No. 21-5

Consistent with 39 U.S.C. 3632(a), I hereby certify that, on August 6, 2021, the Governors voted on adopting Governors' Decision No. 21-5, and that a majority of the Governors then holding office voted in favor of that Decision.

Date: August 6, 2021.

/s/

Michael J. Elston,

Secretary of the Board of Governors.

BILLING CODE 7710-12-P

[FR Doc. 2021-17610 Filed 8-17-21; 8:45 am]

BILLING CODE 7710-12-C